DEPARTMENT OF TRANSPORTATION

Federal Aviation Administration

Public Notice for a Change in Use of Aeronautical Property and Manchester Airport, Manchester, NH

AGENCY: Federal Aviation Administration (FAA), DOT.

ACTION: Request for public comments.

SUMMARY: The FAA is requesting public comment on the City of Manchester, New Hampshire's request to change a portion (10.463 acres) of Airport property from aeronautical use to non-aeronautical use. The property is located at 80-84 Harvey Road (Tax Map 14, Lot 19-1) is currently vacant. The United States Army Reserve will use the property for storage of vehicles and heavy equipment. The property was acquired under FAA Project No. 9-27-0018-C605. In exchange for the subject property, the City of Manchester, New Hampshire will receive a parcel of land of equal value needed for Airport development

DATES: Comments must be received on or before October 17, 2002.

ADDRESSES: Documents are available for review by appointment by contacting Mr. Richard Fixler, Assistant Airport Manager, Engineering & Planning at Manchester Airport, One Airport Road, Manchester, New Hampshire 03103, Telephone 603-624-6539 or Donna R. Witte, Federal Aviation Administration, 16 New England Executive Park, Burlington, Massachusetts, Telephone 781-238-7624.

FOR FURTHER INFORMATION CONTACT: Donna R. Witte at the Federal Aviation Administration, 12 New England Executive Park, Burlington, Massachusetts 01803, Telephone 781-238-7624.

SUPPLEMENTARY INFORMATION: Section 125 of the Wendell H. Ford Aviation Investment and Reform Act for the 21st Century (AIR 21) requires the FAA to provide an opportunity for public notice and comment to the “waiver” or “modification” of a sponsor's Federal obligation to use certain airport property for aeronautical purposes.

Issued in Burlington, Massachusetts on September 4, 2002.
Vincent A. Scarano,
Manager, Airports Divisions, New England Region.

[FR Doc. 02-23616 Filed 9-16-02; 8:45 am]

BILLING CODE 4910-13-M